DEPARTMENT OF HEALTH AND HUMAN SERVICES

Health Resources and Service Administration

Advisory Committee on Interdisciplinary, Community-Based Linkages; Notice of Meeting

In accordance with section 10(a)(2) of the Federal Advisory Committee Act (Public Law 92-463), notice is hereby given of the following meeting:

Name: Advisory Committee on Interdisciplinary, Community-Based Linkages (ACICBL)

Dates and Times: September 19, 2016

Place: Webinar/Conference Call

Status: The meeting will be open to the public.

Purpose: The ACICBL provides advice and recommendations to the Secretary of the Department of Health and Human Services (Secretary) concerning policy, program development, and other matters of significance related to interdisciplinary, community-based training grant programs authorized under sections 750—759, Title VII, Part D of the Public Health Service Act, as amended by the Affordable Care Act. The Advisory Committee focuses on the targeted program areas and/or disciplines for Area Health Education Centers, geriatrics, allied health, chiropractic, podiatric medicine, social work, graduate psychology, and rural health.

The purpose of the ACICBL meeting is to continue discussions on the ACICBL 16th report which is focused on enhancing community-based clinical training.

Agenda: The ACICBL agenda will be available 2 days prior to the meeting on the HRSA Web site at http://www.hrsa.gov/advisorycommittees/bhpradvisory/acicbl/index.html.

SUPPLEMENTARY INFORMATION: Requests to make oral comments or provide written comments to the ACICBL should be sent to Dr. Joan Weiss, Designated Federal Official, using the address and phone number below. Individuals who plan to participate on the conference call and webinar should notify Dr. Weiss at least 3 days prior to the meeting, using the address and phone number below. Members of the public will have the opportunity to provide comments. Interested parties should refer to the meeting subject as the HRSA Advisory Committee on Interdisciplinary, Community-Based Linkages.

• The conference call-in number is 1-800-619-2521. The passcode is: 9271697.

• The webinar link is https://hrsa.connectsolutions.com/acicbl.

Contact: Anyone requesting information regarding the ACICBL should contact Dr. Joan Weiss, in one of three ways: (1) Send a request to the following address: Dr. Joan Weiss, Designated Federal Official, Bureau of Health Workforce, Health Resources and Services Administration, Room 15N39, 5600 Fishers Lane, Rockville, Maryland 20857; (2) call (301) 443-0430; or (3) send an email to jweiss@hrsa.gov.

Jason E. Bennett,
Director, Division of the Executive Secretariat.

[FR Doc. 2016-19814 Filed 8-18-16; 8:45 am]

BILLING CODE 4165-15-P